SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before September 13, 2004.

ADDRESSES: Send all comments regarding whether this information collection is necessary for the proper performance of the function of the agency, whether the burden estimates are accurate, and if there are ways to minimize the estimated burden and enhance the quality of the collection, to Eunice Ricks, Business Development Specialist, Office of Business Initiatives, Small Business Administration, 409 3rd Street SW., Suite 6100, Washington, DC 20416.

FOR FURTHER INFORMATION CONTACT: Eunice Ricks, Business Development Specialist, (202) 205-7422 or Curtis B. Rich, Management Analyst, (202) 205-7030.

SUPPLEMENTARY INFORMATION: Title: “BIC Customer Satisfaction Survey.”

Description of Respondents: New, established and prospective Small Business Owners using the service and programs offered by the Business Information Center Program.

Form No.: 1916.

Annual Responses: 1,355.

Annual Burden: 68.

Jacqueline White,
Chief, Administrative Information Branch.

[FR Doc. 04-15958 Filed 7-13-04; 8:45 am]

BILLING CODE 8025-01-P